DEPARTMENT OF TRANSPORTATION

Federal Aviation Administration

14 CFR Part 97

[Docket No. 30423; Amdt. No. 3104]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective September 3, 2004. The compliance date for each SIAP is specified in the amendatory provisions.

The incorporation by reference of certain publications listed in the regulations is approved by the Director of the Federal Register as of September 3, 2004.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The National Archives and Records Administration(NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC, on August 27, 2004.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective September 30, 2004

Greenville, AL, Mac Crenshaw Memorial, RNAV (GPS) RWY 14, Orig

Greenville, AL, Mac Crenshaw Memorial, RNAV (GPS) RWY 32, Orig

Greenville, AL, Mac Crenshaw Memorial, GPS RWY 14, Orig-A, CANCELLED

Greenville, AL, Mac Crenshaw Memorial, GPS RWY 32, Orig-A, CANCELLED

Anchorage, AK, Ted Stevens Anchorage Intl, RNAV (GPS) RWY 6R, Amdt 1

San Francisco, CA, San Francisco Intl, LDA PRM RWY 28R, Orig, (Simultaneous Close Parallel)

San Francisco, CA, San Francisco Intl, ILS PRM RWY 28L, Orig (Simultaneous Close Parallel)

San Jose, CA, Norman Y. Mineta San Jose Intl, VOR RWY 12R, Amdt 4

San Jose, CA, Norman Y. Mineta San Jose Intl, VOR/DME RWY 30L, Amdt 2

San Jose, CA, Norman Y. Mineta San Jose Intl, VOR-A, Orig, CANCELLED

San Jose, CA, Norman Y. Mineta San Jose Intl, NDB/DME RWY 30L, Amdt 6

San Jose, CA, Norman Y. Mineta San Jose Intl, ILS OR LOC RWY 12R, Amdt 6

San Jose, CA, Norman Y. Mineta San Jose Intl, ILS OR LOC/DME RWY 30L, Amdt 22

San Jose, CA, Norman Y. Mineta San Jose Intl, LOC/DME RWY 30L, Amdt 11A, CANCELLED

Crestview, FL, Bob Sikes, VOR-A, Amdt 12

Crestview, FL, Bob Sikes, NDB RWY 17, Amdt 3

Crestview, FL, Bob Sikes, ILS OR LOC RWY 17, Orig-B

Crestview, FL, Bob Sikes, RNAV (GPS) RWY 35, Orig

Fernandina Beach, FL, Fernandina Beach Muni, RNAV (GPS) RWY 13, Orig

Fernandina Beach, FL, Fernandina Beach Muni, GPS RWY 13, Orig-A, CANCELLED

Augusta, GA, Augusta Regional at Bush Field, RNAV (GPS) RWY 17, Amdt 1

Augusta, GA, Augusta Regional at Bush Field, RNAV (GPS) RWY 35, Amdt 1

Marion, IN, Marion Muni, ILS OR LOC RWY 4, Amdt 7

Marion, IN, Marion Muni, VOR RWY 4, Amdt 13

Marion, IN, Marion Muni, VOR RWY 15, Amdt 10

Marion, IN, Marion Muni, VOR RWY 22, Amdt 16

Marion, IN, Marion Muni, RNAV (GPS) RWY 15, Orig

Marion, IN, Marion Muni, RNAV (GPS) RWY 22, Orig

Marion, IN, Marion Muni, RNAV (GPS) RWY 33, Orig

Owensboro, KY, Owensboro-Daviess County, ILS OR LOC RWY 36, Amdt 11

Owensboro, KY, Owensboro-Daviess County, RNAV (GPS) RWY 5, Orig

Owensboro, KY, Owensboro-Daviess County, RNAV (GPS) RWY 18, Orig

Owensboro, KY, Owensboro-Daviess County, RNAV (GPS) RWY 23, Orig

Owensboro, KY, Owensboro-Daviess County, RNAV (GPS) RWY 36, Orig

Owensboro, KY, Owensboro-Daviess County, NDB RWY 36, Amdt 9

Owensboro, KY, Owensboro-Daviess County, VOR RWY 5, Amdt 1

Owensboro, KY, Owensboro-Daviess County, VOR RWY 18, Amdt 9

Owensboro, KY, Owensboro-Daviess County, VOR RWY 36, Amdt 17

Owensboro, KY, Owensboro-Daviess County, GPS RWY 5, Orig, CANCELLED

Orange, MA, Orange Muni, VOR-A, Amdt 6B

Orange, MA, Orange Muni, NDB RWY 32, Orig

Orange, MA, Orange Muni, NDB OR GPS-B, Amdt 4C, CANCELLED

Minneapolis, MN, Minneapolis-St Paul Intl/Wold Chamberlain, ILS OR LOC RWY 12L, Amdt 6A, ILS RWY 12L (CAT II) Amdt 6A, ILS RWY 12L (CAT III) Amdt 6A

Omaha, NE, Eppley Airfield, ILS OR LOC RWY 32R, Orig; ILS RWY 32R (CAT II), Orig; ILS RWY 32R (CAT III), Orig

Las Vegas, NV, McCarran Intl, ILS OR LOC/DME RWY 1L, Orig

Atlantic City, NJ, Atlantic City International, ILS OR LOC/DME RWY 31, Orig

Tucumcari, NM, Tucumcari Muni, VOR RWY 26, Amdt 6

Buffalo, NY, Buffalo Niagara Intl, ILS OR LOC/DME RWY 32, Orig

Massena, NY, Massena Intl-Richards Field, VOR-A, Orig

Massena, NY, Massena Intl-Richards Field, VOR OR GPS RWY 27, Amdt 4A, CANCELLED

Massena, NY, Massena Intl-Richards Field, VOR/DME RNAV OR GPS RWY 5, Amdt 5A, CANCELLED

Massena, NY, Massena Intl-Richards Field, VOR/DME RNAV OR GPS RWY 23, Amdt 7A, CANCELLED

Massena, NY, Massena Intl-Richards Field, RNAV (GPS) Y RWY 5, Orig

Massena, NY, Massena Intl-Richards Field, RNAV (GPS) Z RWY 5, Orig

Massena, NY, Massena Intl-Richards Field, RNAV (GPS) RWY 9, Orig

Massena, NY, Massena Intl-Richards Field, RNAV (GPS) RWY 23, Orig

Massena, NY, Massena Intl-Richards Field, RNAV (GPS) RWY 27, Orig

Cleveland, OH, Cleveland-Hopkins Intl, ILS OR LOC RWY 6R, Amdt 19A, ILS RWY 6R (CAT II) Amdt 19A, ILS RWY 6R (CAT III), Amdt 19A

Cleveland, OH, Cleveland-Hopkins Intl, RNAV (GPS) Y RWY 6L, Orig-A, CANCELLED

Cleveland, OH, Cleveland-Hopkins Intl, RNAV (GPS) RWY 6L, Amdt 1

San Antonio, TX, San Antonio Intl, NDB RWY 12R, Amdt 21

San Antonio, TX, San Antonio Intl, NDB RWY 30L, Amdt 12

San Antonio, TX, San Antonio Intl, VOR/DME RNAV RWY 30L, Amdt 11, CANCELLED

San Antonio, TX, San Antonio Intl, RNAV (GPS) RWY 3, Amdt 1

Charlottesville, VA, Charlottesville-Albemarle, ILS OR LOC RWY 3, Amdt 13

Charlottesville, VA, Charlottesville-Albemarle, NDB RWY 3, Amdt 16

* * * Effective October 28, 2004

Belleville, IL, Scott AFB/Midamerica, NDB RWY 32L, Orig

Indianapolis, IN, Indianapolis Metropolitan, NDB RWY 15, Amdt 2

Indianapolis, IN, Indianapolis Metropolitan, VOR RWY 33, Amdt 9

Indianapolis, IN, Indianapolis Metropolitan, GPS RWY 33, Orig-A, CANCELLED

Indianapolis, IN, Indianapolis Metropolitan, RNAV (GPS) RWY 15, Orig

Indianapolis, IN, Indianapolis Metropolitan, RNAV (GPS) RWY 33, Orig

Kalamazoo, MI, Kalamazoo/Battle Creek Intl, VOR RWY 5, Orig-B

Hibbing, MN, Chisholm-Hibbing, RNAV (GPS) RWY 22, Orig-A

Oshkosh, WI, Wittman Regional, RNAV (GPS) RWY 36, Amdt 1B

* * * Effective November 25, 2004

Sandersville, GA, Kaolin Field, VOR/DME-A, Amdt 5

Sandersville, GA, Kaolin Field, RNAV (GPS) RWY 12, Orig

Sandersville, GA, Kaolin Field, RNAV (GPS) RWY 30, Orig

Northwood, ND, Northwood Muni-Vince Fld, RNAV (GPS) RWY 26, Orig

Philadelphia, PA, Philadelphia International, RNAV (GPS) RWY 35, AMDT 1

Philadelphia, PA, Philadelphia International, RNAV (GPS) Y RWY 9R, AMDT 1

Philadelphia, PA, Philadelphia International, RNAV (GPS) Z RWY 9R, AMDT 1

Tullahoma, TN, Tullahoma Regional Arpt/Wm Northern Field, RNAV (GPS) RWY 6, Orig

Tullahoma, TN, Tullahoma Regional Arpt/Wm Northern Field, RNAV (GPS) RWY 18, Orig

Tullahoma, TN, Tullahoma Regional Arpt/Wm Northern Field, RNAV (GPS) RWY 24, Orig

Tullahoma, TN, Tullahoma Regional Arpt/Wm Northern Field, RNAV (GPS) RWY 36, Orig

Tullahoma, TN, Tullahoma Regional Arpt/Wm Northern Field, NDB RWY 18, Amdt 2

Tullahoma, TN, Tullahoma Regional Arpt/Wm Northern Field, SDF RWY 18, Amdt 4

Tullahoma, TN, Tullahoma Regional Arpt/Wm Northern Field, VOR RWY 6, Orig

Tullahoma, TN, Tullahoma Regional Arpt/Wm Northern Field, VOR RWY 24, Orig

Tullahoma, TN, Tullahoma Regional Arpt/Wm Northern Field, VOR/DME A, Orig, CANCELLED

Tullahoma, TN, Tullahoma Regional Arpt/Wm Northern Field, VOR/DME OR GPS-B, Amdt 3B, CANCELLED

Tullahoma, TN, Tullahoma Regional Arpt/Wm Northern Field, VOR/DME RNAV OR GPS RWY 36, Amdt 4, CANCELLED

[FR Doc. 04-20060 Filed 9-2-04; 8:45 am]

BILLING CODE 4910-13-P